DEPARTMENT OF TRANSPORTATION

Federal Railroad Administration

[Docket No. FRA 2012-0006-N-12]

Environmental Impact Statement for the Northeast Corridor Between Washington, DC, New York, NY and Boston, MA

AGENCY: Federal Railroad Administration (FRA), Department of Transportation (DOT).

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections. This document describes the collection of information for which FRA intends to seek OMB approval.

DATES: Comments must be received no later than November 19, 2012.

ADDRESSES: You may submit comments identified by DOT Docket ID Number [Docket No. FRA 2012-0006-N-12] on-line at http://www.regulations.gov (follow the online instructions for submitting comments), by mail to Docket Management Facility, U.S. Department of Transportation, 1200 New Jersey Ave. SE., Room W12-140, Washington, DC 20590-0001, by hand delivery to West Building Ground Floor, Room W12-140, 1200 New Jersey Ave. SE., Washington, DC (between 9 a.m. and 5 p.m. ET, Monday through Friday, except Federal holidays), or by facsimile to (202) 493-2251.

Each submission must include the Agency name and the Docket number for this Notice. Note that all comments received will be posted without change to http://www.regulations.gov, including any personal information provided.

FOR FURTHER INFORMATION CONTACT: Rebecca Reyes-Alicea, U.S. Department of Transportation, Federal Railroad Administration, Office of Railroad Policy & Development, Mail Stop 20, 1200 New Jersey Avenue SE., Washington, DC 20590.

SUPPLEMENTARY INFORMATION: The Paperwork Reduction Act of 1995 (PRA), Public Law 104-13, 2, 109 Stat. 163 (1995) (codified as revised at 44 U.S.C. 3501-3520), and its implementing regulations, 5 CFR Part 1320, require Federal agencies to provide 60-days' notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(I)-(iv); 5 CFR 1320.8(d)(1)(I)-(iv).

FRA believes that soliciting public comment will promote its efforts to reduce the administrative and paperwork burdens associated with this collection of information. Comments that you submit in response to this notice are a matter of public record. Before including your address, phone number, email address, or other personal identifying information in your comment, please be aware that your entire comment, including your personal identifying information may be made publicly available at any time. While you can ask us in your comment to withhold personal identifying information from public review, we cannot guarantee that we will be able to do so. In summary, FRA reasons that comments received will advance three objectives: (i) Reduce reporting burdens; (ii) ensure that it organizes information collection requirements in a “user friendly” format to improve the use of such information; and (iii) accurately assess the resources expended to retrieve and produce information requested. See 44 U.S.C. 3501.

Below is a brief summary of the information collection activities that FRA will submit for clearance by OMB as required under the PRA:

Title: Survey of Northeast Regional and Intercity Household Travel Attitudes and Behavior.

Type of Request: New information collection requirement.

Status: Regular review.

OMB Clearance Number: None.

Form Number: F222.

Respondent Obligation: Voluntary.

Frequency of Response: On occasion.

Affected Public: Members of the general public between the ages of 18 and 74 who have Northeast intercity or regional travel experience during the 12 months prior to interview.

Estimated Number of Respondents: up to 22,500 for phase 1; up to 15,000 for phase 2.

Abstract: FRA proposes to collect information from the public to determine current intercity and regional travel behavior of Northeast residents. The information collected will include frequency of trips, origin and destination, modes of travel (and class of service if applicable), trip purpose, party size, trip costs, and other trip characteristics. It will also ask for travel preferences under alternative choice scenarios that include different and new modes, classes of service, costs, and amenities.

The proposed information collection will be conducted in two phases. The first phase (Phase 1 Survey) will be conducted by telephone, using computer-assisted telephone interviewing (CATI). A dual frame sample design will be used including both landlines and cell phones. The Phase 1 Survey will obtain basic travel information and invite just those who experienced a qualifying intercity or regional travel trip to provide more detailed travel information and choice preferences in a second phase. The Phase 1 Survey interview is estimated to take five (5) minutes to complete. The second phase (Phase 2 Survey), which will immediately follow the first, will be administered by web (except in cases when easy web access is not possible and the participant needs a mailed paper survey). The Phase 2 Survey will ask more detailed questions about one randomly selected trip that the respondent reported in the first phase of the survey. In addition, it will ask the travel preference questions. The Phase 2 Survey is estimated to take 15 minutes to complete.

The Northeast faces major congestion and capacity constraints that, if not addressed, will have the potential to curtail future mobility and economic growth in the region. Thus, FRA established the Northeast Corridor (NEC) Future Program to develop a Passenger Rail Corridor Investment Plan (PRCIP) for the Northeast region. The PRCIP will address the larger goals of improving mobility, effectively serving travel demand, supporting economic development, reducing growth in carbon emissions and dependence of foreign oil, and contributing to improved land utilization. The PRCIP requires the development and evaluation of improved transportation alternatives for the Northeast. In support of preparing the PRCIP, this data collection is needed to build a model for estimating market demand for transportation in the Northeast and to evaluate how travelers would respond to alternative transportation service options.

While there are certain publicly available data that can assist in analyzing the Northeast travel market during the early phases of the project when alternatives are evaluated using coarse screening tools, more detailed data will be needed to support development of the detailed PRCIP. Currently available data include airline ticket data, Amtrak ticket data, and commuter rail ticket data. But these data sources do not contain information on the characteristics of the traveler (such as age, income, or vehicle ownership), trip purpose, detail on party size, or actual origins and destinations. Importantly, there is no current information on the number of intercity trips taken by automobile in the Northeast. Further, there is not currently a sufficient information source for traveler preferences regarding new transportation services that might be developed as part of the PRCIP.

Reporting Burden: The target sample size for the Phase 2 Survey is up to 15,000 responses. To achieve this target sample size, we estimate needing to contact up to 22,500 households in the Phase 1 Survey. This larger number for Phase 1 respondents accounts for the fact that (i) not all households will have taken a qualifying trip during the previous 12 months and (ii) not all respondents will want to participate. All interviewing will occur during a two to three month phase in winter/spring 2012-2013.

Phase | Minutes | Respondents | Burden hours
Phase 1 | 5 | 22,500 | 1,875
Phase 2 | 15 | 15,000 | 3,750
Total |  |  | 5,625

Total Annual Estimated Responses: 37,500.

Total Estimated Annual Burden: 5,625 hours.

Status: Regular Review.

Requested Expiration: 3 years from date of approval.

Authority: 44 U.S.C. 3501-3520.

Issued in Washington, DC, on September 14, 2012.
Rebecca Pennington,
Chief Financial Officer, Federal Railroad Administration.

[FR Doc. 2012-23232 Filed 9-19-12; 8:45 am]

BILLING CODE 4910-06-P